NUCLEAR REGULATORY COMMISSION

[Docket Nos. 50-338-SLR-2 and 50-339-SLR-2; ASLBP No. 24-984-02-SLR-BD01]

Virginia Electric and Power Company; Establishment of Atomic Safety and Licensing Board

Pursuant to the Commission's regulations, see, e.g., 10 CFR 2.104, 2.105, 2.300, 2.309, 2.313, 2.318, 2.321, notice is hereby given that an Atomic Safety and Licensing Board (Board) is being established to preside over the following proceeding:

Virginia Electric and Power Company

(North Anna Power Station, Units 1 and 2)

This proceeding involves the twenty-year subsequent license renewal of Renewed Facility Operating Licenses NPF-4 and NPF-7, which currently authorize Virginia Electric and Power Company to operate North Anna Power Station, Units 1 and 2, located in Louisa County, Virginia, until, respectively, April 1, 2038 and August 21, 2040. In response to a notice published in the Federal Register announcing the opportunity to request a hearing, see 89 FR 960 (Jan. 8, 2024), a hearing request was filed on March 28, 2024 on behalf of Beyond Nuclear and the Sierra Club.

The Board is comprised of the following Administrative Judges:

Michael M. Gibson, Chair, Atomic Safety and Licensing Board Panel, U.S. Nuclear Regulatory Commission, Washington, DC 20555-0001

Nicholas G. Trikouros, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Rockville, Maryland.

Dated: April 3, 2024.
Edward R. Hawkens,
Chief Administrative Judge, Atomic Safety and Licensing Board Panel.

[FR Doc. 2024-07447 Filed 4-8-24; 8:45 am]

BILLING CODE 7590-01-P